DEPARTMENT OF LABOR

Employment and Training Administration

[TA-W-57,518]

Boone International, Inc., Corona, CA; Notice of Termination of Investigation

Pursuant to section 221 of the Trade Act of 1974, as amended, an investigation was initiated on July 8, 2005 in response to a petition filed by Company official on behalf of workers at Boone International, Inc., Corona, California.

The petitioner has requested that the petition be withdrawn. Consequently, the investigation has been terminated.

Signed at Washington, DC this 18th day of August, 2005.
Linda G. Poole,
Certifying Officer, Division of Trade Adjustment Assistance.

[FR Doc. E5-4779 Filed 8-31-05; 8:45 am]

BILLING CODE 4510-30-P